DEPARTMENT OF HEALTH AND HUMAN SERVICES

Centers for Disease Control and Prevention

[60Day-24-24FS; Docket No. CDC-2024-0038]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed information collection, as required by the Paperwork Reduction Act of 1995. This notice invites comments on a proposed information collection titled Needle Exchange Utilization Survey (NEXUS). This data collection is being created to develop a surveillance system to monitor drug use, prevention behaviors, and the infectious disease consequences of drug use in select urban and non-urban areas of the U.S.

DATES: CDC must receive written comments on or before July 29, 2024.

ADDRESSES: You may submit comments identified by Docket No. CDC-2024-0038 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7118; Email: omb@cdc.gov.

SUPPLEMENTARY INFORMATION:

Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of the existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of collecting information on those to respond, including using appropriate automated, electronic, mechanical, or other technological collection techniques or other forms of information technology, e.g., permitting electronic responses; and

5. Assess information collection costs.

Proposed Project

Needle Exchange Utilization Survey (NEXUS)—New—National Center for HIV, Viral Hepatitis, STD, and TB Prevention (NCHHSTP), Centers for Disease Control and Prevention (CDC).

Background and Brief Description

The purpose of the Needle Exchange Utilization Survey (NEXUS) is to develop a surveillance system to monitor drug use, prevention behaviors, and the infectious disease consequences of drug use in 6-15 select urban and non-urban areas of the U.S. that the opioid crisis has impacted. Such a surveillance system is needed to inform prevention efforts and policy. The specific objectives of the project are to assess the following among persons who inject drugs who are recruited in syringe services programs (SSPs) and their peers who use drugs through peer-driven recruitment: (1) drug use and sexual behaviors, injection risk networks, receipt of prevention services, and barriers to prevention and care; and (2) the prevalence of HIV and hepatitis C (HCV) infections.

The project will involve a two-stage sampling approach. First, up to 15 SSPs will be selected to ensure geographic diversity and representation of key program characteristics, such as the syringe distribution model (needs-based vs. all others) and length in operation (<5 years, ≥5 years). Second, SSP clients, the majority who are persons who inject drugs (PWID), and their peers who use drugs will be recruited through a combination of direct recruitment at each SSP and peer-driven recruitment to partake in a survey and HCV and HIV testing.

Clients of SSPs and their peers who meet eligibility criteria will complete a survey using an Electronic Data Capture system, a secure web-based application for administering online surveys. The survey will include questions on drug use and sexual behaviors, injection risk networks, drug treatment history, history of drug use-related adverse health outcomes, experiences with law enforcement, HIV and HCV testing experience, and use of prevention and health care services. Lastly, participants will be offered anonymous HIV and HCV testing in conjunction with the survey, which they may refuse with no effect on participation in the survey.

Data from NEXUS will be used to inform the planning and evaluation of prevention programs at the local and national levels that aim to reduce adverse health outcomes due to injection and non-injection drug use and to contribute to the overall opioid crisis response efforts. Data from NEXUS will also be used for an ongoing surveillance system in the U.S. to monitor trends in drug use and the infectious disease consequences of drug use.

Approximately 6,000 individuals will complete the eligibility screener. Our target population is 300 participants per site or 4,500 for up to 15 sites. We anticipate that, on average, 25% or 1,499 persons (for up to 15 SSPs) will not be interested in completing a questionnaire, yielding a maximum of 6,000 eligible participants. The total annualized burden is 3,126 hours. There are no other costs to respondents other than their time.

Estimated Annualized Burden Hours
Respondent | Form | No. of respondents | No. of responses per respondent | Average burden per response (hours) | Total burden (in hours)
Persons Screened | Eligibility Screening Form English | 5,400 | 1 | 5/60 | 450
Persons Screened | Eligibility Screening Form Spanish | 600 | 1 | 5/60 | 50
Persons who give permission | Model Project Consent Form English | 4,050 | 1 | 5/60 | 338
Persons who give permission | Model Project Permission Form Spanish | 450 | 1 | 5/60 | 38
Eligible Participants | NEXUS Survey English | 4,050 | 1 | 30/60 | 2,025
Eligible Participants | NEXUS Survey Spanish | 450 | 1 | 30/60 | 225
Total |  |  |  |  | 3,126

Jeffrey M. Zirger,
Lead, Information Collection Review Office, Office of Scientific Integrity, Office of Science, Centers for Disease Control and Prevention.

[FR Doc. 2024-11591 Filed 5-24-24; 8:45 am]

BILLING CODE 4163-18-P